DEPARTMENT OF COMMERCE

Foreign-Trade Zones Board

[B-11-2016]

Foreign-Trade Zone 230—Piedmont Triad Area, North Carolina; Notification of Proposed Production Activity; United Chemi-Con, Inc.; Subzone 230A (Aluminum Electrolytic Capacitors); Lansing, North Carolina

The Piedmont Triad Partnership, grantee of FTZ 230, submitted a notification of proposed production activity to the FTZ Board on behalf of United Chemi-Con, Inc. (UCC), operator of Subzone 230A, at its facility located in Lansing, North Carolina. The notification conforming to the requirements of the regulations of the FTZ Board (15 CFR 400.22) was received on February 26, 2016.

UCC already has authority to produce aluminum electrolytic capacitors within Subzone 230A. The current request would add new foreign components to the scope of authority. Pursuant to 15 CFR 400.14(b), FTZ activity would be limited to the specific foreign-status components and specific finished products described in the submitted notification (as described below) and subsequently authorized by the FTZ Board.

Production under FTZ procedures could exempt UCC from customs duty payments on the foreign status components used in export production. On its domestic sales, UCC would be able to choose the duty rate during customs entry procedures that applies to aluminum electrolytic capacitors (free) for the foreign status inputs noted below and in the existing scope of authority. Customs duties also could possibly be deferred or reduced on foreign status production equipment.

The components sourced from abroad are: Boric acid; D-Mannitol; polyoxy ethylene glyceline; polyvinyl/p-nitrobenzy alcohol; ammonium benzoate; adipic acid; ammonium adipate; maleic acid; gamma resorcylic acid; isomeric decanedicarboxylic & 1,2,3,4-butanetracarboxylic; polyethylene glycol phosphate; KIP (gamma-butyrolactone & 1-ethyl-2,3-dimethylimidazoliniium hydrogen phthalate mixture); PEG1000 polyethylene glycol; MMA-10R (carbolic acid mixture); wax poly white; silicone oil; polypropylene tape; sleeving and nuts of plastic; end disks; gaskets of ethylene propylene diene monomer; steel screws/nuts/hexes; aluminum waste/scrap/tab stock/foil/inserts/rivets/washers/springs/lock washers; and, metal clamps and brackets (duty rate ranges from free to 6.5%).

Public comment is invited from interested parties. Submissions shall be addressed to the FTZ Board's Executive Secretary at the address below. The closing period for their receipt is April 13, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: February 29, 2016.
Andrew McGilvray,
Executive Secretary.

[FR Doc. 2016-04845 Filed 3-3-16; 8:45 am]

BILLING CODE 3510-DS-P